CONSUMER PRODUCT SAFETY COMMISSION

Sunshine Act; Notice of Meeting

Time and Date: Thursday, June 15, 2006, 10 a.m.

Place: Room 420, Bethesda Towers, 4330 East West Highway, Bethesda, Maryland.

Status: Open to the public.

Matters To Be Considered: All Terrain Vehicles (ATVs).

The staff will brief the Commission on regulatory and non-regulatory options related to all terrain vehicles (ATVs).

For a recorded message containing the latest agenda information, call (301) 504-7948.

FOR FURTHER INFORMATION CONTACT: Todd A. Stevenson, Office of the Secretary, U.S. Consumer Product Safety Commission, 4330 East West Highway, Bethesda, MD 20814, (301) 504-7923.

Dated: May 31, 2006.
Todd A. Stevenson,
Secretary.

[FR Doc. 06-5141 Filed 6-1-06; 2:39 am]

BILLING CODE 6355-01-M